DEPARTMENT OF COMMERCE

National Oceanic and Atmospheric Administration

DEPARTMENT OF THE INTERIOR

Fish and Wildlife Service

[RTID 0648-XB606]

Pacific Remote Islands Marine National Monument; Monument Management Plan

AGENCY: National Oceanic and Atmospheric Administration, Commerce; Fish and Wildlife Service, Interior.

ACTION: Notice of intent; request for comments.

SUMMARY: The National Oceanic and Atmospheric Administration (NOAA) and the U.S. Fish and Wildlife Service (USFWS), as co-leads, announce their intention to prepare a Monument Management Plan (MMP) for the Pacific Remote Islands Marine National Monument (Monument). NOAA and USFWS are updating their original notice of intent to draft the MMP to include information about the expansion of the Monument in 2014, and to announce that NOAA and USFWS are co-leads in drafting the MMP. NOAA and USFWS are seeking input on issues, concerns, ideas, and suggestions for the future management of the Monument. NOAA and USFWS will also prepare a draft environmental assessment, concurrent with the management plan, to evaluate potential effects of implementing the proposed management alternatives for the Monument. Following the completion of the MMP, USFWS will prepare new individual Comprehensive Conservation Plans (CCPs) and revise existing CCPs for National Wildlife Refuges within the Monument, as appropriate.

DATES: We must receive comments by January 20, 2022.

ADDRESSES: You may submit comments on this document, identified by NOAA-NMFS-2021-0122, by either of the following methods:

• Electronic Submission: Submit all electronic public comments via the Federal e-Rulemaking Portal. Go to https://www.regulations.gov and enter NOAA-NMFS-2021-0122 in the Search box. Click on the “Comment” icon, complete the required fields, and enter or attach your comments.

• Mail: Send written comments to Dr. Malia Chow, Branch Chief, Habitat Conservation Division, Pacific Islands Regional Office, National Marine Fisheries Service, NOAA Inouye Regional Center, 1845 Wasp Blvd., Bldg. 176, Honolulu, HI 96818.

Instructions: Comments sent by any other method, to any other address or individual, or received or uploaded after the end of the comment period, may not be considered by NOAA and USFWS. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

Additional information about the Monument and the seven refuge units is available at http://www.fws.gov/refuge/pacific_remote_islands_marine_national_monument and https://www.fisheries.noaa.gov/pacific-islands/habitat-conservation/pacific-remote-islands-marine-national-monument.

FOR FURTHER INFORMATION CONTACT: Dr. Malia Chow, NOAA, (808) 725-5015, or malia.chow@noaa.gov.

SUPPLEMENTARY INFORMATION: NOAA and USFWS are co-leads in the preparation of the MMP for the Monument, which was established by Presidential Proclamation 8336 and expanded by Presidential Proclamation 9173. With this notice, NOAA and USFWS update their original 2011 notice of intent (April 5, 2011, 76 FR 18775). NOAA and USFWS are making the updates to include the 2014 expansion of the Monument and to identify NOAA and USFWS as co-leads in drafting the MMP (previously, USFWS was the lead agency). A draft environmental assessment (EA) to evaluate the potential effects of implementing the proposed management alternatives will also be prepared. When the draft MMP and EA are complete, NOAA and USFWS will publish a notice of availability to obtain comments and input from the public and other Federal agencies on the draft documents.

We invite the public and Federal, Tribal, State, and local governments to submit input on issues, concerns, ideas, and suggestions for the future management of the Monument.

Monument Establishment

On January 6, 2009, President George W. Bush issued Presidential Proclamation No. 8336, establishing the Monument under the authority of the Antiquities Act of 1906 (16 U.S.C. 431-433). Upon establishment, the Monument incorporated approximately 495,189 square nautical miles (nm²), or 1,282,534 square kilometers (km²), within its boundaries, which extended 50 nm (93 km) out from the mean low water lines of Baker, Howland, and Jarvis Islands; Johnston, Palmyra, and Wake Atolls; and Kingman Reef. On September 25, 2014, President Barack Obama issued Presidential Proclamation No. 9173, which expanded the Monument by expanding the area around Jarvis Island and Johnston and Wake Atolls to include the waters and submerged lands to the extent of the seaward limit of the U.S. Exclusive Economic Zone, generally to 200 nm (370 km) offshore.

Monument Natural Resources

The Monument contains significant objects of scientific interest and is home to one of the most widespread assemblages of marine and terrestrial protected areas in the Pacific Ocean. It is designated to protect and sustain many endemic (not found elsewhere) species, including corals, fish, shellfish, marine mammals, seabirds, water birds, land birds, insects, and vegetation. The 2014 expansion areas provide habitat and forage for tuna, turtles, manta rays, sharks, cetaceans, and seabirds. These areas also contain pristine deep sea and open ocean ecosystems with unique biodiversity, and approximately 165 seamounts (undersea mountains) that provide habitat for colonies of deepwater corals that are many thousands of years old.

Agency Responsibilities

The Proclamations require the Secretaries of the Interior and Commerce, who delegated management responsibilities to USFWS and NOAA to prepare an MMP within their respective authorities for the Monument, and to promulgate implementing regulations that address specific actions necessary for the proper care and management of the Monument. With this notice, the Department of the Interior and Department of Commerce commit to working cooperatively together and with partners and stakeholders in the development of the MMP.

Military Role in Management

In accordance with the Proclamation, USFWS Director will not commence management of emergent lands at Wake Atoll unless and until a use agreement between the Secretary of the Air Force and the Secretary of the Interior is terminated. The Secretary of Defense also continues to manage those portions of the emergent lands of Johnston Atoll under the administrative jurisdiction of the Defense Department until such administrative jurisdiction is terminated, at which time those emergent lands shall be administered as part of the Monument and the Johnston Atoll National Wildlife Refuge (NWR; Refuge). However, the MMP will recommend management actions for marine areas surrounding both Johnston and Wake Atolls.

Fishing

The Proclamations prohibit commercial fishing within the Monument. Consistent with this requirement, the MMP will not consider management alternatives to allow commercial fishing. The Proclamations do allow the Secretaries of Interior and Commerce to permit fishing for scientific exploration and research purposes. Noncommercial fishing may also be permitted, as long as it is managed as a sustainable activity. The noncommercial fishing permit process is established; information is available at https://www.fisheries.noaa.gov/permit/marine-national-monument-fishing-permit.

Magnuson-Stevens Fishery Conservation and Management Act (Magnuson-Stevens Act)

NOAA is responsible for the stewardship of the Nation's ocean resources and their habitats, or “trust resources,” primarily through the Magnuson-Stevens Act. The trust resources are living marine resources and their habitats, including but not limited to commercial and recreational fishery resources, endangered and threatened marine species and their designated critical habitats, marine mammals, marine turtles, marshes, mangroves, seagrass beds, coral reefs, other coastal habits, and areas identified as essential fish habitat (EFH), in accordance with the Magnuson-Stevens Act. EFH is made up of those waters and substrate necessary to fish for spawning, breeding, feeding, or growth to maturity. Using the EFH, Endangered Species Act, and Marine Mammal Protection Act consultation processes, NOAA will work in collaboration and coordination with USFWS, partner agencies, project proponents, and stakeholders to conserve these trust resources.

Overview of Refuges and Previous Planning Efforts

Within the boundaries of the Monument, USFWS continues to administer pre-existing national wildlife refuges at Baker, Howland, and Jarvis Islands; Wake, Johnston, and Palmyra Atolls; and Kingman Reef, in accordance with the National Wildlife Refuge System Administration Act of 1966 (16 U.S.C. 668dd-668ee; Refuge System Administration Act, as amended). USFWS manages these individual refuges, and the Monument as a whole, as part of the National Wildlife Refuge System (NWRS).

Howland Island, Baker Island, and Jarvis Island

Howland Island, Baker Island, and Jarvis Island are unique places for climate change research and other research conducted at the Equator. These areas have deepwater corals, coral reefs, and corals in near-pristine condition, as well as predator-dominated marine ecosystems with a biomass of top predators. CCPs were completed for the Baker Island, Howland Island, and Jarvis Island NWRs on September 24, 2008 (73 FR 76678; December 17, 2008). CCPs are required for each refuge in accordance with the National Wildlife Refuge System Improvement Act.

Kingman Reef and Palmyra Atoll

Kingman Reef and Palmyra Atoll have relatively undisturbed coral reefs, with high levels of coral diversity, fish biomass, and large proportions of apex predators relative to other areas in the central Pacific Ocean.

Johnston Atoll

Johnston Atoll's coral reefs help connect the Hawaiian Archipelago reef communities to others in the Pacific. This reef community is the originating source for much of the larvae for the Hawaiian Islands' corals, invertebrates, and other reef fauna. The atoll's reefs have the deepest reef-building corals on record.

Wake Atoll

Wake Atoll encompasses possibly the oldest living coral atoll in the world and has healthy and abundant coral and fish populations. CCPs have not been completed for Palmyra, Kingman, Wake, and Johnston Atoll NWRs. For the current MMP planning process, USFWS will focus on appropriate conservation and management recommendations for all refuges. Following the completion of the MMP, USFWS will prepare new CCPs and revise existing CCPs, as appropriate.

Monument Management Plan Development Process

The purpose for developing an MMP is to provide monument managers with a 15-year direction for the proper care and management of the significant objects of scientific interest that are within the boundaries of the Monument. The MMP will be consistent with Refuge purposes and will contribute toward the mission of the NWRS. The MMP will be consistent with the Magnuson-Stevens Act and sound principles of marine protected area planning and fish and wildlife management, conservation, legal mandates, and applicable policies. The EA will evaluate the impacts of implementing the proposed draft management plan, in accordance with the National Environmental Policy Act (42 U.S.C. 4321, as amended).

Public Involvement

NOAA and USFWS will conduct the planning process in a manner that will provide participation opportunities for the public and Federal, Tribal, State, and local governments. At this time, NOAA and USFWS encourage comments in the form of issues, concerns, ideas, and suggestions for the future management of the Monument.

Preliminary Issues, Concerns, and Opportunities

Below, we have identified the following preliminary issues, concerns, and opportunities that may be addressed in the MMP. Additional issues may be identified during public scoping.

• Climate impacts and management approach

• Invasive species prevention and control

• Management access, maintenance, and island infrastructure

• Seabird protection and management

• Scientific exploration and research opportunities

• Marine debris and abandoned floating fishing aggregation device removal

• Cultural, historic, and maritime resources protection

• Past and current military use

• Legacy contaminants management and cleanup

• Potential threats (e.g., trespass; illegal fishing; and shipwrecks, groundings, and spills)

• Public awareness, education, and support

• Emergency response to natural and manmade disasters and assessments

• Inventory and monitoring of biological organisms and abiotic (nonliving) factors

• Surveillance and enforcement regarding illegal fishing

• Permit system for allowable public activities (special uses, recreational fishing)

• Methods and best management practices for habitat conservation and restoration actions

• International programs and collaboration

• Opportunities for sustainable practices in management operations

Next Steps

USFWS and NOAA will consider all the public comments received from this NOI in developing the draft MMP. The draft MMP and EA will be made available for public comment once they are completed.

Ngagne Jafnar Gueye,
Acting Director, Office of Sustainable Fisheries, National Marine Fisheries Service.
Robyn Thorson,
Regional Director, Columbia-Pacific Northwest and Pacific Islands Regions, U.S. Fish and Wildlife Service.

[FR Doc. 2021-27535 Filed 12-20-21; 8:45 am]

BILLING CODE 3510-22-P